DEPARTMENT OF COMMERCE

National Oceanic and Atmospheric Administration

Coastal Zone Management Program: Public Hearing

AGENCY: National Oceanic and Atmospheric Administration, Department of Commerce.

ACTION: Notice of public hearing.

SUMMARY: Pursuant to the National Environmental Policy Act (NEPA), 42 U.S.C. 4321 et seq., the National Oceanic and Atmospheric Administration (NOAA) has prepared a draft environmental impact statement (DEIS) to assess the environmental impacts associated with the approval of the Indian Lake Michigan Coastal Program (LMCP). The LMCP is the result of substantial efforts on the part of Federal, State, and local agencies, and of the participation and contribution of local citizens. Federal approval of the LMCP would make the State eligible for program administration grant funds and require that Federal actions be consistent with the Program.

The requirements of 40 CFR parts 1500-1508 [Council on environmental Quality (CEQ) regulations to implement the National Environmental Policy Act (NEPA)] apply to the preparation of the DEIS. Specifically, 40 CFR section 1506.6 requires agencies to provide public notice of NEPA-related hearings and the availability of environmental documents. This notice is part of NOAA's action to comply with the public hearing requirement.

The DEIS was filed with the Environmental Protection Agency (EPA) on September 12, 2001, and a notice of its availability will be published on September 21, 2001. NOAA and the Indiana Department of Natural Resources will hold public hearings on this DEIS in Michigan City, Indiana, on October 1, 2001; Highland, Indiana, on October 3, 2001; and Portage, Indiana, on October 4, 2001. All hearings will be held at 7 p.m.

DATES: Individuals or organizations wishing to submit comments on the DEIS should do so by November 5, 2001.

ADDRESSES: Comments should be made to John King, Acting Chief, Coastal Programs Division (N/ORM3), Office of Ocean and Coastal Resource Management, NOS, NOAA, 1305 East-West Highway, Silver Spring, Maryland, 20910, telephone (301) 713-3155 extension 188, e-mail john.king@noaa.gov.

FOR FURTHER INFORMATION CONTACT: Diana Olinger, Coastal Programs Division (NORM/3), Office of Ocean and Coastal Resource Management, NOS, NOAA, 1305 East-West Highway, Silver Spring, Maryland, 20910, telephone (301) 713-3155, extension 149, e-mail diana.olinger@noaa.gov.

Federal Domestic Assistance Catalog 11.419 Coastal Zone Management Program Administration.
Jamison S. Hawkins,
Deputy Assistant Administrator for Ocean Services and Coastal Zone Management, National Oceanic and Atmospheric Administration, Department of Commerce.

[FR Doc. 01-23522 Filed 9-19-01; 8:45 am]

BILLING CODE 3510-08-M